DEPARTMENT OF THE INTERIOR

Fish and Wildlife Service

[FWS-R8-ES-2010-N199; 80230-1265-0000-S3]

Ruby Lake National Wildlife Refuge, Elko and White Pine Counties, NV; Comprehensive Conservation Plan and Environmental Assessment

AGENCY: Fish and Wildlife Service, Interior.

ACTION: Notice of Intent; request for comments.

SUMMARY: We, the U.S. Fish and Wildlife Service (Service), intend to prepare a Comprehensive Conservation Plan (CCP) and Environmental Assessment (EA) for the Ruby Lake National Wildlife Refuge, located in Elko and White Pine Counties of Nevada. We provide this notice in compliance with our CCP policy to advise other Federal and State agencies, Tribes, and the public of our intentions, and to obtain suggestions and information on the scope of issues to consider in the planning process.

DATES: To ensure consideration, we must receive your written comments by December 28, 2010.

ADDRESSES: Send your comments or requests for more information by any of the following methods.

• E-mail: fw8plancomments@fws.gov. Include “Ruby Lake CCP” in the subject line of the message.

• Fax: Attn: Mark Pelz, (916) 414-6497.

• U.S. Mail: Ruby Lake National Wildlife Refuge, HC 60, Box 860, Ruby Valley, Nevada 89833-9802.

• In-Person Drop-off: You may drop off comments during regular business hours; please call (775) 779-2237 for directions.

FOR FURTHER INFORMATION CONTACT: Mark Pelz, Chief, Refuge Planning, at (916) 414-6500, or Guy Wagner, Refuge Manager, at (775) 779-2237. Further information may also be found at http://www.fws.gov/rubylake/.

SUPPLEMENTARY INFORMATION:

Introduction

With this notice, we initiate our process for developing a CCP for Ruby Lake NWR in Elko and White Pine Counties, NV. This notice complies with our CCP policy to (1) Advise other Federal and State agencies, Tribes, and the public of our intention to conduct detailed planning on this refuge and (2) obtain suggestions and information on the scope of issues to consider in the environmental document and during development of the CCP.

Background

The CCP Process

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Administration Act.

Each unit of the National Wildlife Refuge System was established for specific purposes. We use these purposes as the foundation for developing and prioritizing the management goals and objectives for each refuge within the National Wildlife Refuge System mission, and to determine how the public can use each refuge. The planning process is a way for us and the public to evaluate management goals, objectives, and strategies that will ensure the best possible approach to wildlife, plant, and habitat conservation, while providing for wildlife-dependent recreation opportunities that are compatible with each refuge's establishing purposes and the mission of the National Wildlife Refuge System.

Our CCP process provides opportunities for participation by Tribal, State, and local governments; agencies; organizations; and the public. We will be contacting identified stakeholders and individuals at this time for initial input. If you would like to meet with planning staff or would like to receive periodic updates, please contact us (see ADDRESSES section). At this time we encourage comments in the form of issues, concerns, ideas, and suggestions for the future management of Ruby Lake NWR.

We will conduct the environmental review of this project in accordance with the requirements of the National Environmental Policy Act of 1969, as amended (NEPA) (42 U.S.C. 4321 et seq.); NEPA regulations (40 CFR parts 1500-1508); other appropriate Federal laws and regulations; and our policies and procedures for compliance with those laws and regulations.

Ruby Lake National Wildlife Refuge

Ruby Lake National Wildlife Refuge (NWR) was established in 1938 as a refuge and breeding ground for migratory birds and other wildlife (Executive Order 7923). Located along migration corridors serving both the Pacific and Central flyways, this refuge is a crossroads for birds migrating west along the Humboldt River to the Owens Valley, east to Utah's Great Salt Lake, northwest to the Klamath Basin, and south to the Colorado River Valley. Ruby Lake NWR supports the largest population of nesting canvasback ducks west of the Mississippi River outside Alaska, and is a vital waterfowl nesting area.

More than 200 springs emanating from the base of the Ruby Mountains provide life-sustaining water to the 39,926-acre refuge. The marsh is surrounded by 22,926 acres of meadows, grasslands, alkali playa, and shrub-steppe uplands. Water elevations in some marsh units are controlled to provide nesting and feeding areas for waterfowl and other marsh bird species. Vegetation in the meadows and grasslands is managed to provide nesting cover and feeding areas for wildlife. Existing public uses include wildlife observation, photography, interpretation, environmental education, waterfowl hunting, and recreational fishing.

Scoping: Preliminary Issues, Concerns, and Opportunities

We have identified preliminary issues, concerns, and opportunities that we may address in the CCP. These include wildlife management, habitat management, wildlife-dependent recreation, environmental education, and cultural resources. During public scoping, we may identify additional issues.

Public Meetings

We will give the public an opportunity to provide input at a public meeting (or meetings). You may obtain the schedule from the refuge planner or refuge manager (see FOR FURTHER INFORMATION CONTACT). You may also submit comments or request a meeting during the planning process by mail, e-mail, or fax (see ADDRESSES). There will be additional opportunities to provide public input once we have prepared a draft CCP.

Public Availability of Comments

Before including your address, phone number, e-mail address, or other personal identifying information in your comment, you should be aware that your entire comment—including your personal identifying information—may be made publicly available at any time. While you can ask us in your comment to withhold your personal identifying information from public review, we cannot guarantee that we will be able to do so.

Dated: October 22, 2010.
Alexandra Pitts,
Acting Regional Director, Pacific Southwest Region, Sacramento, California.

[FR Doc. 2010-27349 Filed 10-28-10; 8:45 am]

BILLING CODE 4310-55-P